DEPARTMENT OF THE INTERIOR

Bureau of Land Management

[LLORM05000.L63340000.DU0000.16XL1116AF; HAG 16-0047]

Notice of Availability of the Draft Medford District Resource Management Plan Amendment and Environmental Assessment: Table Rocks Area of Critical Environmental Concern Proposed Boundary Change and Supplementary Rules

AGENCY: Bureau of Land Management, Interior.

ACTION: Notice.

SUMMARY: In accordance with the National Environmental Policy Act of 1969, as amended, and the Federal Land Policy and Management Act of 1976, as amended, the Bureau of Land Management (BLM) has prepared a Draft Resource Management Plan (RMP) Amendment and Draft Environmental Assessment (EA) titled Medford District RMP Amendment and EA: Table Rocks Area of Critical Environmental Concern (ACEC) Proposed Boundary Change and Supplementary Rules and, by this notice, is announcing the opening of the comment period.

DATES: To ensure that comments will be considered, the BLM must receive written comments on the Draft RMP Amendment/Draft EA within 60 days following the date the BLM publishes its notice of the Draft RMP Amendment/Draft EA in the Federal Register. The BLM will announce future meetings or hearings and any other public participation activities at least 15 days in advance through public notices, media releases, and/or mailings.

ADDRESSES: You may submit comments related to the Medford District RMP Amendment and EA: Table Rocks ACEC Proposed Boundary Change and Supplementary Rules by any of the following methods:

• Web site: https://eplanning.blm.gov/epl-front-office/eplanning/nepa/nepa_register.do.

• Email: BLM_OR_MD_Mail@blm.gov.

• Fax: (541) 618-2400.

• Mail: 3040 Biddle Road, Medford, OR 97504.

Copies of the Medford District RMP Amendment and EA: Table Rocks ACEC Proposed Boundary Change and Supplementary Rules are available in the Medford District Office at the above address.

FOR FURTHER INFORMATION CONTACT: Anthony Kerwin, District Planning and Environmental Coordinator; telephone (541) 618-2402; address 3040 Biddle Road, Medford, OR 97504; email BLM_OR_MD_Mail@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The proposed action includes the following:

• Add to Table Rocks ACEC designation 863 acres the BLM has acquired since the original 1986 ACEC designation. The parcels include 40 acres on Lower Table Rock in Township 36 South, Range 2 West, Section 4; 557 acres on Upper Table Rock in Township 35 South, Range 2 West, Sections 25, 26, 35, & 36; and 266 acres on Upper Table Rock in Township 36 South, Range 2 West, Section 2.

• Remove from ACEC designation 0.9 acres located in Township 36 South, Range 2 West, Section 1, located across Modoc Road from the Upper Table Rock trailhead parking lot (Map 2 inset).

• Establish the ACEC boundary around an area totaling 4,864 acres which would encompass contiguous BLM and TNC lands and lands under conservation easement. The establishment of the larger ACEC boundary would not establish an ACEC or authorize any BLM decisions or actions on non-BLM lands (including existing TNC lands).

• In the future, incorporate lands acquired within or adjacent to the expanded ACEC boundary if they meet the relevance and importance criteria for the Table Rocks ACEC and require special management attention.

• Establish the following supplemental rules:

a. No discharge of firearms, or discharge of gas or air powered weapons, including paintball and paintball-like weapons.

b. No motorized vehicles or non-motorized mechanized vehicles that are propelled or powered by any means.

c. No dogs or other domestic animals outside of trailhead parking areas, except on trails signed as allowing leashed dogs in the Camp White zone.

d. No metal detectors or digging, scraping, disturbing, or removing natural land features for any purpose.

e. No campfires or overnight camping.

The ACEC boundary and designation changes would amend the 1995 Medford RMP. The adoption of the supplementary rules is an implementation-level action.

The supplementary rules would make permanent the Temporary Restrictions that were implemented in 2014 to protect the resource values of the 1,243 acres of ACEC lands and the 852 acres of acquired BLM lands. Those restrictions were published in the Federal Register on March 26, 2014, and prohibited the above-mentioned activities in the Table Rocks ACEC and associated, acquired lands.

The Table Rocks ACEC was designated in 1986 by an amendment to the Medford District Management Framework Plan. The area, which includes 1,003 acres on Upper Table Rock and 240 acres on Lower Table Rock, was designated an ACEC to recognize and protect botanical and geological features, threatened and endangered and special status species, and natural systems. The vernal pools, ecology, Limnanthes pumila ssp. pumila (plant species: Dwarf woolly meadowfoam), and geology met the criteria for relevance and importance to qualify the area as an ACEC.

Between 1979 and 2009, TNC acquired several parcels on the Table Rocks which they have managed as the Table Rocks Preserve. In 1980, TNC was granted a perpetual conservation easement on 795 acres of private land on Lower Table Rock. In 2009, TNC purchased a parcel with funds provided in part by the Oregon Watershed Enhancement Board (OWEB). As a condition of the OWEB grant, TNC granted OWEB a perpetual easement on 898 acres of the purchased lands on both Table Rocks. The Nature Conservancy's management objectives are to protect ecological diversity and to provide scenic and biologic continuity between the Table Rocks and the Rogue River while protecting the area from potential development.

As of 2012, the BLM and TNC own all vernal pool habitats on the summits and most of the flanks of the Table Rocks, totaling 4,864 acres. Since the 1986 ACEC designation, the BLM has acquired three parcels from TNC—40 acres on Lower Table Rock to develop trailhead facilities and 823 acres in two separate parcels on Upper Table Rock. The BLM anticipates acquiring a fourth acquisition from TNC in 2016 consisting of five parcels totaling 221 acres. These parcels were evaluated in 2013 in an ACEC review and were determined to contain ecological, historical, cultural and scenic resources, and potential recreational values similar and supplemental to the original ACEC. They meet the criteria for relevance and importance for an ACEC and are under temporary management consistent with management of the rest of the Table Rocks ACEC until they are officially designated as part of the ACEC. While these lands are within the proposed ACEC boundary, they will not be part of the ACEC; however, this allows the BLM to incorporate lands we expect to acquire in the future within this boundary into the ACEC without having to prepare another RMP Amendment.

The BLM issued a Notice of Intent to Prepare an RMP Amendment on September 8, 2014. Publication of the Notice of Intent initiated the public scoping process, with public comments accepted until October 8, 2014. The BLM also sent 366 letters to various agencies, organizations, and landowners located within the planning area. Over 70 responses were received, and many requested a public meeting. On October 16, approximately 50 people attended an evening open house held at the BLM Medford District Office. Because of the interest in the project, the public comment period was extended to November 25, 2015. Another 26 comments were received. The main issue raised by the public during scoping was opposition to the scale and scope of the proposed 13,556-acre ACEC and concern over what the proposed ACEC boundary would mean to private property rights within the boundary. In response, the BLM decreased the size of the proposed boundary in the current proposed action to only include BLM- and TNC-administered lands. No other unresolved issues were identified during scoping.

Scoping conducted for the Table Rocks Temporary Restrictions EA in 2013 was also considered during development of the Draft Plan Amendment and EA. Scoping for the temporary restrictions included visitor surveys conducted at the Table Rocks in 2011 by the Southern Oregon Research Center at Southern Oregon University; discussing hunting issues with representatives from Oregon Department of Fish and Wildlife, Rocky Mountain Elk Foundation, and Oregon Hunters Association; and meeting with the Jackson County Commissioners, who submitted a comment that generated local newspaper and television interest. One comment on the EA was received from the Jackson County Office of County Council which proposed that the BLM should consider implementing temporary restrictions only on the BLM lands that were previously owned by TNC.

This notice begins the 30-day comment period for the Draft Medford District RMP Amendment and EA: Table Rocks Area of Critical Environmental Concern (ACEC) Proposed Boundary Change and Supplementary Rules. Please note that public comments and information submitted—including names, street addresses, and email addresses of persons who submit comments—will be available for public review and disclosure at the above-address during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2

Jamie E. Connell,
Acting State Director, Oregon/Washington.

[FR Doc. 2016-13130 Filed 6-2-16; 8:45 am]

BILLING CODE 4310-33-P